NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Revision.

2. The title of the information collection: DOE/NRC Form 742, “Material Balance Report” and NUREG/BR-0007, “Instructions for the Preparation and Distribution of Material Status Reports”.

3. The form number if applicable: DOE/NRC Form 742.

4. How often the collection is required: DOE/NRC Form 742 is submitted annually following a physical inventory of nuclear materials.

5. Who will be required or asked to report: Persons licensed to possess specified quantities of special nuclear or source material.

6. An estimate of the number of annual responses: 200.

7. The estimated number of annual respondents: 200 licensees.

8. An estimate of the total number of hours needed annually to complete the requirement or request: 1,000 hours.

9. An indication of whether Section 3507(d), Pub. L. 104-13 applies: N/A.

10. Abstract: Each licensee authorized to possess special nuclear material totaling more than 350 grams of contained uranium-235, uranium-233, or plutonium, or any combination thereof, and any licensee authorized to possess 1,000 kilograms of source material is required to submit DOE/NRC Form 742. Reactor licensees required to submit DOE/NRC Form 742, and facilities subject to 10 CFR part 75, are required to submit DOE/NRC Form 742C. The information is used by NRC to fulfill its responsibilities as a participant in US/IAEA Safeguards Agreement and bilateral agreements with Australia and Canada, and to satisfy its domestic safeguards responsibilities.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by August 11, 2003. Comments received after this date will be considered if it is practical to do so, but assurance of consideration cannot be given to comments received after this date. Bryon Allen, Office of Information and Regulatory Affairs (3150-0004), NEOB-10202, Office of Management and Budget, Washington, DC 20503.

Comments can also be submitted by telephone at (202) 395-3087.

The NRC Clearance Officer is Brenda Jo. Shelton, 301-415-7233.

Dated at Rockville, Maryland, this 2nd day of July, 2003.
For the Nuclear Regulatory Commission.
Beth St. Mary,
Acting NRC Clearance Officer Office of the Chief Information Officer.

[FR Doc. 03-17464 Filed 7-9-03; 8:45 am]

BILLING CODE 7590-01-P